DEPARTMENT OF LABOR

Employment and Training Administration

Notice of a Change in Status of the Extended Benefit (EB) Program for the District of Columbia

AGENCY: Employment and Training Administration, Labor.

ACTION: Notice.

This notice announces a change in benefit period eligibility under the EB program that has occurred since the publication of the last notice regarding the District of Columbia's EB status:

• Based in the language in the District's law which conditioned the applicability of the Total Unemployment Rate (TUR) trigger on full Federal funding resulted in an “off” indicator for the District of Columbia for the week ending August 21, 2021. This will end any payable period associated with the TUR trigger for the District of Columbia on September 11, 2021.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
Lenita Jacobs-Simmons,
Acting Assistant Secretary, Labor.

[FR Doc. 2021-20239 Filed 9-17-21; 8:45 am]

BILLING CODE 4510-FW-P